DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its forty-sixth meeting.

Name: National Advisory Committee on Rural Health and Human Services

Date and Time: February 22, 2004; 2 p.m.-5 p.m.; February 23, 2004; 8:30 a.m.-5 p.m.; February 24, 2004; 8:30 a.m.-10:30 a.m.

Place: Grand Hyatt Washington, 1000 H Street NW., Washington, DC 20001, Phone: 1-800-233-1234.

Status: The meeting will be open to the public.

Purpose: The National Advisory Committee on Rural Health and Human Services provides advice and recommendations to the Secretary with respect to the delivery, research, development and administration of health and human services in rural areas.

Agenda: Sunday afternoon, February 22, 2004 at 2 p.m., the Chairperson, the Honorable David Beasley, will open the meeting and welcome the Committee. The first session will open with a discussion of the Committee business and a review of the 2004 Report to the Secretary by the Honorable David Beasley. This will be followed by an update from the Committee Staff represented by the following: Ms. Jennifer Riggle, Office of Rural Health Policy; Mr. Dennis Dudley, Administration on Aging; and Ms. Rachel Owen, Administration on Children and Families. The final session for the day will be an overview of the Medicare Prescription Drug Bill. The Sunday meeting will close at 5 p.m.

Monday morning, February 23, 2004 at 8:30 a.m. the meeting will begin with the 2005 Report Planning, led by the Honorable David Beasley and Mr. Tom Morris, Acting Deputy Director of the Office of Rural Health Policy. At 9:30 a.m. the Committee will hear a presentation of the Rural Priorities of the Department of Health and Human Services by Dr. Wade Horn, Assistant Secretary for Children and Families and Secretary Tommy Thompson (invited). The Committee will resume discussion of the 2005 Workplan and break for a joint lunch with the National Rural Health Association Policy Institute (lunch will be provided for the Committee only). After lunch the Committee will hear a panel discussion on rural health and human services emerging issues. The Monday session will end with continued discussion of the 2005 Workplan.

The final session will be convened Tuesday morning, February 24 at 8:30 a.m. The Committee will review the discussion of the 2005 Workplan. The meeting will conclude with a discussion of the June and September meetings. The meeting will be adjourned at 10:30 a.m.

For Further Information Contact: Anyone requiring information regarding the Committee should contact Tom Morris, MPA, Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: December 23, 2003.
Tina M. Cheatham,
Acting Director, Division of Policy Review and Coordination.

[FR Doc. 03-32161 Filed 12-30-03; 8:45 am]

BILLING CODE 4165-15-P